DEPARTMENT OF STATE

[Public Notice No. 3497]

Shipping Coordinating Committee; Subcommittee on Standards of Training and Watchkeeping; Notice of Meeting

The Shipping Coordinating Committee (SHC) will conduct an open meeting at 9:30 AM on January 16, 2001, in Room 4618 of the United States Coast Guard Headquarters Building, 2100 Second Street SW, Washington, DC 20593-0001. The primary purpose of the meeting is to prepare for the thirty-second session of the International Maritime Organization (IMO) Sub-Committee on Standards of Training and Watchkeeping (STW) to be held at IMO from January 22 to 26, 2001.

The primary matters to be considered include:

1. Training and certification of maritime pilots;

2. Unlawful practices associated with certificates of competency (i.e., forged certificates);

3. Standard Marine Communication Phrases (SMCP);

4. Training in the use of Electronic Chart Display and Information Systems (ECDIS);

5. Guidance for training in ballast water management;

6. Guidance for ships operating in ice-covered waters;

7. Validation of an IMO model course on assessment of competence; and

8. Guidance associated with the International Convention on Standards of Training, Certification and Watchkeeping for Fishing Vessel Personnel (STCW-F Convention, as adopted by the 1995 conference; not yet ratified or in force).

Members of the public may attend the meeting up to the seating capacity of the room. Interested persons may seek information by writing: LCDR Luke Harden, U.S. Coast Guard (G-MSO-1), Room 1210, 2100 Second Street SW, Washington, DC 20593-0001 or by calling; (202) 267-0229.

Dated: December 19, 2000.
Stephen M. Miller,
Executive Secretary, Shipping Coordinating Committee.

[FR Doc. 00-32866 Filed 12-22-00; 8:45 am]

BILLING CODE 4710-70-P